DEPARTMENT OF JUSTICE

Notice of Lodging of Consent Decree Pursuant to the Clean Air Act

In accordance with Departmental policy, 28 CFR 50.7, notice is hereby given that a proposed consent decree in United States v. Therm-O-Rock West, Inc., Civil No. 00-1849 was lodged on September 28, 2000, with the United States District Court for District of Arizona.

The consent decree settles claims for civil penalties and injunctive relief against Therm-O-Rock for: civil penalties and injunctive relief pursuant to Section 113(b) of the Clean Air Act, 42 U.S.C. 7413(b), based on Therm-O-Rock's violations of Subparts A and UUU of the New Source Performance Standards (“NSPS”), 40 CFR Part 60. Pursuant to the consent decree Therm-O-Rock will pay a civil penalty of $25,000.

The Department of Justice will receive, for a period of thirty (30) days from the date of this publication, comments relating to the proposed consent decree. Comments should be addressed to the Assistant Attorney General for the Environment and Natural Resources Division, Department of Justice, Washington, D.C. 20530, and should refer to United States v. Therm-O-Rock West, Inc., DOJ Ref. #90-5-2-1-2233.

The proposed consent decree may be examined at the office of the United States Attorney, for the District of Arizona, 230 North First Ave Phoenix, AZ 85025; and the Region IX Office of the Environmental Protection Agency, 75 Hawthorne Street San Francisco, CA. A copy of the proposed consent decree may be obtained by mail from the Consent Decree Library, P.O. Box 7611, Washington, D.C. 20044-7611. In requesting a copy please refer to the referenced case and enclose a check in the amount of $3.00 (25 cents per page reproduction costs), payable to the Consent Decree Library.

Walker B. Smith,
Deputy Chief, Environmental Enforcement Section, Environment and Natural Resources Division.

[FR Doc. 00-25899 Filed 10-6-00; 8:45 am]

BILLING CODE 4410-15-M